DEPARTMENT OF VETERANS AFFAIRS

[OMB Control No. 2900-0466]

Proposed Information Collection Activity: Proposed Collection; Comment Request

AGENCY: Veterans Benefits Administration, Department of Veterans Affairs.

ACTION: Notice.

SUMMARY: The Veterans Benefits Administration (VBA), Department of Veterans Affairs (VA), is announcing an opportunity for public comment on the proposed collection of certain information by the agency. Under the Paperwork Reduction Act (PRA) of 1995, Federal agencies are required to publish notice in the Federal Register concerning each proposed collection of information, including each proposed reinstatement, with change, of a previously approved collection for which approval has expired, and allow 60 days for public comment in response to the notice. This notice solicits comments for information needed to verify beneficiaries' deposit remaining at a financial institution against a fiduciary's accounting.

DATES: Written comments and recommendations on the proposed collection of information should be received on or before July 3, 2000.

ADDRESSES: Submit written comments on the collection of information to Nancy J. Kessinger, Veterans Benefits Administration (20S52), Department of Veterans Affairs, 810 Vermont Avenue, NW, Washington, DC 20420. Please refer to “OMB Control No. 2900-0466” in any correspondence.

FOR FURTHER INFORMATION CONTACT: Nancy J. Kessinger at (202) 273-7079 or FAX (202) 275-5947.

SUPPLEMENTARY INFORMATION: Under the PRA of 1995 (Public Law 104-13; 44 U.S.C., 3501-3520), Federal agencies must obtain approval from the Office of Management and Budget (OMB) for each collection of information they conduct or sponsor. This request for comment is being made pursuant to Section 3506(c)(2)(A) of the PRA.

With respect to the following collection of information, VBA invites comments on: (1) whether the proposed collection of information is necessary for the proper performance of VBA's functions, including whether the information will have practical utility; (2) the accuracy of VBA's estimate of the burden of the proposed collection of information; (3) ways to enhance the quality, utility, and clarity of the information to be collected; and (4) ways to minimize the burden of the collection of information on respondents, including through the use of automated collection techniques or the use of other forms of information technology.

Title: Certificate of Balance on Deposit and Authorization to Disclose Financial Records, VA Form 27-4718a.

OMB Control Number: 2900-0466.

Type of Review: Reinstatement, with change, of a previously approved collection for which approval has expired.

Abstract: Fiduciaries are required to obtain certifications that the balances remaining on deposit in financial institutions as shown on accountings are correct. The form is completed by a certifying official at a financial institution who must also affix the financial seal or stamp. An Estate analyst reviews the information provided on this form when auditing accounting to determine the veracity of the information supplied by fiduciaries. The purpose is to prevent fiduciaries from supplying false certification, embezzling funds, and possibly prevent and/or identify fraud, waste, and abuse of government funds paid to fiduciaries on behalf of VA beneficiaries.

Affected Public: Individuals or Households, Business or Other for-Profit, Not for Profit Institutions, and State, Local or Tribal Government.

Estimated Annual Burden: 1,185 hours.

Estimated Average Burden Per Respondent: 3 minutes.

Frequency of Response: Annually.

Estimated Number of Respondents: 23,700.

Dated: April 24, 2000.
Donald L. Neilson,
Director, Information Management Service.

[FR Doc. 00-11085 Filed 5-3-00; 8:45 am]

BILLING CODE 8320-01-P